DEPARTMENT OF VETERANS AFFAIRS

[OMB Control No. 2900-0863]

Agency Information Collection Activity Under OMB Review: VA Acquisition Regulation (VAAR) Clause 852.237-73, Crime Control Act—Requirement for Background Checks

AGENCY: Office of Acquisition and Logistics, Department of Veterans Affairs.

ACTION: Notice.

SUMMARY: In compliance with the Paperwork Reduction Act (PRA) of 1995, this notice announces that the Office of Acquisition and Logistics (OAL), Department of Veterans Affairs, will submit the collection of information abstracted below to the Office of Management and Budget (OMB) for review and comment. The PRA submission describes the nature of the information collection and its expected cost and burden and includes the actual data collection instrument.

DATES: Written comments and recommendations for the proposed information collection should be sent within 30 days of publication of this notice to www.reginfo.gov/public/do/PRAMain. Find this particular information collection by selecting “Currently under Review—Open for Public Comments” or by using the search function. Refer to “OMB Control No. 2900-0863.”

FOR FURTHER INFORMATION CONTACT: Maribel Aponte, Office of Enterprise and Integration, Data Governance Analytics (008), 810 Vermont Ave., Washington, DC 20006, (202) 266-4688 or email maribel.aponte@va.gov. Please refer to “OMB Control No. 2900-0863” in any correspondence.

SUPPLEMENTARY INFORMATION:

Authority: Public Law 104-13; 44 U.S.C. 3501-3521.

Title: VA Acquisition Regulation (VAAR) Construction Provisions and Clauses.

OMB Control Number: 2900-0863.

Type of Review: Extension of a currently approved collection.

Abstract: This Paperwork Reduction Act (PRA) submission seeks renewal without changes of Office of Management and Budget (OMB) approved No. 2900-0863, VAAR clause 852.237-73, Crime Control Act—Requirement for Background Checks. Under the Crime Control Act of 1990 (34 U.S.C. 20351), each agency of the Federal Government, and every facility operated by the Federal Government, or operated under contract with the Federal Government, that hires, or contracts for hire, individuals involved with the provision to children under the age of 18 of childcare services shall assure that all existing and newly hired employees undergo a criminal history background check. VAAR clause 852.237-73, Crime Control Act—Requirement for Background Checks, is required in all solicitations, contracts, and orders that involve providing childcare services to children under the age of 18, including social services, health and mental health care, child- (day) care, education (whether or not directly involved in teaching), and rehabilitative programs covered under the statute.

An agency may not conduct or sponsor, and a person is not required to respond to a collection of information unless it displays a currently valid OMB control number. The Federal Register Notice with a 60-day comment period soliciting comments on this collection of information was published at 87 FR 45855 on July 29, 2022, pages 45855 to 45856.

Affected Public: Business or other for profit.

Estimated Annual Burden: 1,500 hours.

Estimated Average Burden per Respondent: 60 minutes.

Frequency of Response: One per contractor's employee.

Estimated Number of Respondents: 1,500.

By direction of the Secretary.
Maribel Aponte,
VA PRA Clearance Officer, Office of Enterprise and Integration, Data Governance Analytics, Department of Veterans Affairs.

[FR Doc. 2022-21588 Filed 10-4-22; 8:45 am]

BILLING CODE 8320-01-P